SMALL BUSINESS ADMINISTRATION

[Disaster Declaration #14813 and #14814]

Louisiana Disaster Number LA-00066

AGENCY: U.S. Small Business Administration.

ACTION: Amendment 2.

SUMMARY: This is an amendment of the Presidential declaration of a major disaster for Public Assistance Only for the State of Louisiana (FEMA-4277-DR), dated 08/16/2016.

Incident: Severe Storms and Flooding.

Incident Period: 08/11/2016 and continuing.

Effective Date: 09/01/2016.

Physical Loan Application Deadline Date: 10/17/2016.

Economic Injury (EIDL) Loan Application Deadline Date: 05/16/2017.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of Louisiana, dated 08/16/2016, is hereby amended to include the following areas as adversely affected by the disaster.

Primary Parishes: Assumption, Cameron, Saint Charles, Saint James, St John The Baptist, West Baton Rouge

All other information in the original declaration remains unchanged.

(Catalog of Federal Domestic Assistance Number 59008)

James E. Rivera,
Associate Administrator for Disaster Assistance.

[FR Doc. 2016-22116 Filed 9-14-16; 8:45 am]

BILLING CODE 8025-01-P